DEPARTMENT OF STATE

[Public Notice: 12115]

Designation of Arkan Ahmad `Abbas al-Matuti and Nawaf Ahmad Alwan al-Rashidi as Specially Designated Global Terrorists

Acting under the authority of and in accordance with section 1(a)(ii)(B) of E.O. 13224 of September 23, 2001, as amended by E.O. 13268 of July 2, 2002, E.O. 13284 of January 23, 2003, and E.O. 13886 of September 9, 2019, I hereby determine that the persons known as Arkan Ahmad `Abbas al-Matuti (also known as Arkan Ahmad Abbas Albu-Mazida Albu-Miteuti, Arkan Ahmad `Abbas al-Mitiwiti, and Abu Sarhan) and Nawaf Ahmad Alwan al-Rashidi (also known as Qahtan Nawaf Ahmad Alwan Sada, Nawaf Ahmed Alwan, and Abu Faris) are leaders of ISIS, a group whose property and interests in property are currently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: June 20, 2023.
Antony J. Blinken,
Secretary of State.

[FR Doc. 2023-13703 Filed 6-27-23; 8:45 am]

BILLING CODE 4710-AD-P